TENNESSEE VALLEY AUTHORITY

Production of Tritium for the United States Department of Energy, Rhea and Hamilton Counties, TN

AGENCY: Tennessee Valley Authority (TVA).

ACTION: Issuance of Record of Decision and Adoption of Final Environmental Impact Statement for the Production of Tritium in a Commercial Light Water Reactor (CLWR) prepared by the U.S. Department of Energy (DOE).

SUMMARY: This Record of Decision (ROD) is provided in accordance with the Council on Environmental Quality (CEQ) regulations found at 40 CFR parts 1500 to 1508 and TVA procedures implementing the National Environmental Policy Act.

TVA has decided to enter into an interagency agreement with DOE under The Economy Act (31 U.S.C. 1535) to provide irradiation services for producing tritium in TVA light water reactors. These reactors are Watts Bar Nuclear Plant Unit 1, Rhea County, Tennessee and Sequoyah Nuclear Plant Units 1 and 2, Hamilton County, Tennessee. The TVA Board of Directors passed a resolution approving the interagency agreement on December 15, 1999.

The environmental impacts of producing tritium in these reactors as well as in TVA's Bellefonte Nuclear Plant Units 1 and 2, Jackson County, Alabama were assessed in a 1999 Final Environmental Impact Statement (EIS) for the Production of Tritium in a Commercial Light Water Reactor (DOE/EIS-0288) prepared by DOE. TVA was a cooperating agency in the preparation of this EIS. Under 40 CFR 1506.3(c) of the CEQ regulations, TVA has independently reviewed the EIS prepared by DOE and found it to be adequate and with this notice is adopting the EIS, including the preferred alternative.

FOR FURTHER INFORMATION CONTACT: Greg Askew, P.E., Senior NEPA Specialist, Tennessee Valley Authority, 400 West Summit Hill Drive, mail stop WT 8C, Knoxville, Tennessee, 37902; telephone 865-632-6418; or e-mail gaskew@tva.gov.

SUPPLEMENTARY INFORMATION:

Background

DOE's Mission and the Nation's Tritium Need

The U.S. Department of Energy (DOE) is responsible for supplying nuclear materials for national security needs and ensuring that the nuclear weapons stockpile remains safe and reliable. Tritium, a radioactive isotope of hydrogen, is an essential component of every weapon in the current and projected U.S. nuclear weapons stockpile. Unlike other nuclear materials used in nuclear weapons, tritium decays at a rate of 5.5 percent per year. Accordingly, as long as the Nation relies on a nuclear deterrent, the tritium in each nuclear weapon must be replenished periodically. At present, the U.S. nuclear weapons complex does not have the capability to produce the amounts of tritium that will be required to support the Nation's current and future nuclear weapons stockpile.

In recent years, international arms control agreements have caused the U.S. nuclear weapons stockpile to be reduced in size. Reducing the stockpile has allowed DOE to recycle the tritium removed from dismantled weapons for use in supporting the remaining stockpile. However, due to the decay of tritium, the current inventory of tritium will not meet national security requirements past approximately 2005. Therefore, the most recent Presidential direction, contained in the 1996 Nuclear Weapons Stockpile Plan and an accompanying Presidential Decision Directive, mandates that new tritium be available by approximately 2005.

In December 1995, DOE issued a Record of Decision (ROD) (60 FR 63878) for the Final Programmatic Environmental Impact Statement for Tritium Supply and Recycling (DOE/EIS-0161). In this ROD, DOE decided to pursue a dual-track approach on the most promising tritium-supply alternatives: (1) to initiate purchase of an existing commercial reactor (operating or partially complete) or irradiation services with an option to purchase the reactor for conversion to a defense facility; and (2) to design, build, and test critical components of an accelerator system for tritium production. Under the dual-track approach described in the December 1995 ROD issued by DOE, the agency was to select within 3 years one of these two technologies as the primary source of tritium.

Production of Tritium in a Commercial Light Water Reactor

The production of tritium in a CLWR is technically straightforward and requires no elaborate, complex engineering development and testing program. All the Nation's supply of tritium has been produced in reactors. Most existing commercial pressurized water reactors utilize 12-foot-long rods containing an isotope of boron (boron-10) in ceramic form. These rods are sometimes called burnable absorber rods. The rods are inserted in the reactor fuel assemblies to absorb excess neutrons produced by the uranium fuel in the fission process for the purpose of controlling power in the core at the beginning of an operating cycle.

DOE's tritium program has developed another type of burnable absorber rod in which neutrons are absorbed by a lithium aluminate ceramic rather than boron ceramic. While the two types of rods function in a very similar manner to absorb excess neutrons in the reactor core, there is one notable difference: When neutrons strike the lithium aluminate ceramic material in a tritium producing burnable absorber rod (TPBAR), tritium is produced. This tritium is captured almost instantaneously in a solid zirconium material in the rod, called a “getter.” The solid material that captures the tritium as it is produced in the rod is so effective that the rod will have to be heated in a vacuum at much higher temperatures than normally occur in the operation of a light water reactor to extract the tritium for eventual use in the nuclear weapons stockpile.

These TPBARs would be placed in the same locations in the reactor core as the standard burnable absorber rods. There is no fissile material (uranium or plutonium) in the TPBARs. Depending upon tritium needs, up to as many as 2,400 TPBARs could be placed in a CLWR for irradiation.

TVA's National Defense Role

TVA has a history of supporting national defense programs. The preamble to the TVA Act of 1933 identifies national defense as one of the purposes for its enactment. Further, the TVA Act in Sections 15(h) and 31 declares that the Act should be liberally construed to aid TVA in discharging its responsibilities for the advancement of national defense and other statutory purposes. In compliance with that Congressional mandate, TVA has supported the Nation's defense efforts on numerous occasions.

TVA constructed hydroelectric plants in record time to supply electric power to key defense industries during World War II including aluminum production and Manhattan Project activities at Oak Ridge, Tennessee. TVA produced phosphorus and ammonium nitrate for explosives and munitions during World War II and the Korean conflict. From 1952 to 1957, TVA, under an agreement with the Department of the Army, operated and maintained the Phosphate Development Works (PDW) complex at which various phosphorus based chemical agents were produced. From 1985 to 1988, under a contract with the Department of Defense, the PDW was refurbished to process and purify the Department of Defense's remaining stock of methyl phosphonic dichloride, a chemical agent component. TVA continues to support defense missions today with the cleanup of chemical and munitions production and storage sites as well as stabilization or disposal of surplus chemical weapons stockpiles.

The Procurement Process

The DOE issued a request for proposal RFP DE-RP02-97DP00414 on June 3, 1997 to all nuclear utilities to obtain a fixed price bid for irradiation services with an option to lease or purchase a facility, if necessary, in one or more commercial light water reactors. TVA responded to the RFP on September 15, 1997 with 2 offers:

(1) An Economy Act Proposal ¹ for completion of one unit at the Bellefonte Nuclear Plant with Watts Bar Nuclear Plant Unit 1 as a backup facility. This proposal is referred to as the Bellefonte Revenue Sharing Offer.

¹ Because both TVA and DOE are Federal agencies, an interagency agreement may be reached via the Economy Act (31 U.S.C. 1535). The Economy Act is a Federal law that allows two government agencies to enter into an interagency agreement similar to the contractual agreement that a Federal agency would enter with a non-Federal party through the competitive procurement process. The Federal procurement process for the CLWR program explicitly allows for an interagency agreement via the Economy Act.

(2) A commercial proposal responsive to the RFP to provide irradiation services using Watts Bar Unit 1. This proposal is referred to as the Watts Bar Irradiation Services Offer.

On November 16, 1998, DOE requested TVA to revise and resubmit a stand alone proposal for the purchase of irradiation services from TVA's operating plants at Watts Bar and Sequoyah. On December 8, 1998, TVA submitted a revised Watts Bar Nuclear Plant/Sequoyah Nuclear Plant Services Offer as a commercial proposal for irradiation services using Watts Bar Unit 1 and one unit at Sequoyah for backup and surge production capacity.

On December 22, 1998, Energy Secretary Bill Richardson announced that tritium production in one or more CLWRs would be the primary tritium supply technology and that the accelerator would be developed, but not constructed, as a backup to CLWR tritium production. Secretary Richardson further stated that the Watts Bar and Sequoyah reactors had been designated as the preferred alternative for CLWR tritium production. At the same time, Secretary Richardson also requested that TVA negotiate an interagency agreement under the Economy Act for irradiation services using Watts Bar Unit 1 and one unit at Sequoyah.

Alternatives Considered

TVA submitted the only responsive proposal to DOE's RFP as part of the procurement process described above. As a result, the following five TVA reactors were the only reactors considered in developing alternatives.

• Watts Bar Nuclear Plant Unit 1, Rhea County, Tennessee

• Sequoyah Nuclear Plant Units 1 and 2, Hamilton County, Tennessee, and

• Bellefonte Nuclear Plant Units 1 and 2, Jackson County, Alabama.

One or more of these reactors could be used to produce the tritium necessary to meet national security requirements. Therefore, scenarios comprising various combinations of the five TVA reactors were considered reasonable alternatives the impacts of which were addressed in the EIS. The transportation of irradiated TPBARs from the reactor to the DOE Savannah River Site for processing is also a part of each alternative.

TVA's No Action alternative to the use of CLWRs for tritium production is the continued operation of Watts Bar Unit 1 and Sequoyah Units 1 and 2 and the deferral of construction activities necessary for completion of Bellefonte units 1 and 2 as nuclear units.

Preferences Among Alternatives

DOE's considerations included a desire for low capital cost (low first cost). Also, there is uncertainty in DOE's long-term tritium production requirement with pending ratification of the Strategic Arms Reduction Treaty (START II) by Russia and potential future treaty negotiations. These factors favored selection of a flexible approach not requiring an immediate major commitment of resources by DOE such as would be required for completion of Bellefonte Nuclear Plant Unit 1. Therefore, DOE's preferred alternative was the combination of existing reactors at Watts Bar and Sequoyah Nuclear Plants.

Environmental and Other Considerations of the Decision

Environmental Considerations

The EIS considered two environmentally-distinct sets of alternatives: (1) Alternatives involving the use of only existing operating reactors at Watts Bar and Sequoyah Nuclear Plants, and (2) alternatives that included the completion and startup of the unfinished Bellefonte Nuclear Plant Unit 1 or Units 1 and 2.

Described below are the relative differences in environmental impacts between tritium production in operating CLWRs (Watts Bar Unit 1 and Sequoyah Units 1 and 2 are used in the analysis) and an incomplete CLWR (Bellefonte Unit 1). For an incomplete CLWR, the environmental analysis attributes all of the impacts from completing construction and operating the plant to the tritium production mission.

Construction Impacts

For tritium production in a CLWR, construction impacts would range from none (for operating CLWRs) to minor (for a CLWR which is currently approximately 90 percent complete, and would only require internal modifications). The predominant construction impact associated with an incomplete CLWR would be on socioeconomics, as approximately 4,500 direct jobs and 4,500 indirect jobs could be created during the peak year of construction. The creation of approximately 9,000 total jobs would have a significant positive impact on the economic area surrounding the incomplete reactor. By contrast, use of an existing CLWR would have no socioeconomic impacts. For all alternatives, the environmental impacts associated with construction are considered small.

Operating Impacts

For an operating CLWR, there would either be no impacts, or negligible impacts, to resources such as: land, infrastructure, noise, visual, air quality, water resources (use and quality), geology and soils, archeological and historic, and socioeconomics. Tritium production could cause additional impacts in the following resources: spent fuel generation; human health (normal operations and accidents); low-level radioactive waste (LLW) generation; and transportation.

For the alternative that would complete, start up, and operate an incomplete reactor, the operating impacts include those impacts associated with a new commercial nuclear power plant. The following resources would be affected: infrastructure (including visual resources); water resources; spent fuel generation; human health (normal operations and accidents); LLW generation; transportation; and socioeconomics.

Infrastructure

The production of tritium in an operating CLWR would have no impact on the local infrastructure. The impacts of operating a newly completed reactor would produce more than 1,200 megawatts of usable electric power. In an area such as the Tennessee Valley, this beneficial impact would tend to reduce the need for operation of coal-fired or gas-fired power plants, or could offset the need for additional power plants in the future, potentially reducing future air emissions. Although visual resources surrounding the incomplete reactor site would be negatively impacted by a cooling tower plume, this is not significant enough to change the plant's existing visual resource classification.

Spent Fuel

The operating reactors considered here each contain 193 fuel assemblies. At each refueling a percentage of these assemblies are removed from the reactor and placed in the reactor's spent fuel storage pool. The number of assemblies of spent fuel generated by an existing reactor could increase as a result of tritium production. Increases could range from approximately zero (0) to 60 spent fuel assemblies per cycle depending on the number of TPBARs loaded. The environmental impacts associated with long-term, on-site, dry-cask storage of spent fuel are not significant. For an incomplete CLWR, approximately 72 spent fuel assemblies would be generated during reactor operations without tritium production. Increases in spent fuel could range from zero (0) to approximately 69 additional spent fuel assemblies depending on the number of TPBARs loaded. In this regard, it is DOE's intention to minimize the generation of additional spent fuel by limiting the number of TPBARs inserted in a single reactor. Thus, operation of a newly completed reactor would generate the most spent fuel; by contrast, use of currently operating reactors could lead to a limited incremental increase in spent fuel.

Human Health (Normal Operations)

By adding tritium production to the currently operating reactors, there would be additional radiation doses to workers and the public from tritium production. The incremental increase in annual average worker dose is estimated at approximately 1.1 millirem, while the total population dose within 50 miles is estimated to increase by approximately 2.0 person-rem per year during normal operations. In terms of potential impacts, these values are not significant. For example, a 2.0 person-rem dose translates into a latent cancer fatality risk of 1 in 1,000 years. For the average worker, a 1.1 millirem annual dose translates to a risk to that worker of a latent cancer fatality every 2.3 million years.

By finishing the incomplete reactor and operating it to produce electricity and tritium, there would be radiation doses to workers and the public that do not currently occur. The average annual worker dose is estimated at a maximum of approximately 105 millirem, of which 104 millirem would result from operation of the reactor to produce electricity, and 1.1 millirem would be from tritium operations. The annual total population dose within 50 miles is estimated to be a maximum of approximately 2.3 person-rem. In terms of potential impacts, these values are not significant. For example, a 2.3 person-rem dose translates into a latent cancer fatality risk of 1 in 870 years. A 105 millirem annual dose translates to a risk to an average worker of a latent cancer fatality every 23,000 years. Radiological impacts for normal operations are considered small for all alternatives. Use of an operating CLWR would have the smallest impact to workers.

Human Health (Accidents)

The CLWR EIS provides a detailed evaluation of impacts from accidents on a site-specific basis for the CLWR reactor alternatives. The CLWR EIS documents that the potential impacts from tritium production on accident impacts is small. For design-basis accidents at operating reactors, the risk of a latent cancer fatality to an average individual from tritium production in the 50-mile population surrounding a CLWR would be approximately 1 in 480 million years. At the incomplete reactor site, this risk would be approximately 1 in 1.3 billion years. For beyond design-basis accidents, tritium production would result in very small changes in the consequences of an accident. This is due to the fact that the potential consequences of such an accident would be dominated by radionuclides other than tritium. At the operating reactors, the additional risks to the 50-mile population from adding tritium production would be less than one additional cancer per every 7,100 years from a beyond design-basis accident. At the incomplete reactor site, the total risk of the new reactor and the added tritium mission to the 50-mile population would be approximately 1 latent cancer fatalities per 5,500 years from a beyond design-basis accident. The risks associated with accidents are small for all the CLWR tritium production alternatives.

Low-Level Radioactive Wastes

Low level waste (LLW) generation at the operating reactors could increase by 0.43 cubic meters annually as a result of tritium production. TVA may store this LLW onsite for the life of the plant. The newly completed reactor would generate approximately 40 cubic meters of LLW annually which may also be stored onsite for the life of the plant. Although all of the waste generation impacts are acceptable, the use of currently operating reactors would generate the smallest amount of low-level wastes from tritium production. For all alternatives, the environmental impacts of all waste types, including low-level waste would be small and manageable with existing facilities.

Socioeconomics

Little or no socioeconomic impact is expected by adding the tritium production mission at an operating CLWR. Operation of a newly completed CLWR would add approximately 800 direct and 800 indirect jobs. The socioeconomic impacts of the 1,600 total jobs would have a positive impact on the economic area surrounding the reactor site. Operation of a newly completed reactor would have the greatest positive socioeconomic impacts, while use of currently operating CLWRs to produce tritium would involve insignificant socioeconomic impacts.

Transportation

There will be impacts associated with transporting irradiated TPBARs from the reactor sites to the Tritium Extraction Facility (TEF) at the Savannah River Site (SRS). There would be up to approximately 13 shipments of TPBARs annually to SRS which would result in an annual human health risk, over the entire route of the shipments, of less than 1 latent cancer fatality every 100,000 years. The impact on any one individual would be less than that. All the transportation impacts are negligible.

No environmental commitments or mitigation were identified for the preferred alternative. A substantial radiological monitoring program for public exposure and all environmental media (air, water and land) is an established component of existing operations at the Watts Bar and Sequoyah Nuclear Plants. This existing program will identify any increases in radiological releases and impacts that may result from tritium production.

Other Considerations

TVA's Support of National Defense

TVA's decision to produce the Nation's tritium on an “at cost” basis under an Economy Act agreement reflects TVA's continuing willingness to support the national defense. TVA's historic and contemporary defense roles are described above under TVA's National Defense Role. Both alternatives would further TVA's commitment to national defense by producing the requisite quantities of tritium.

Regulatory and Licensing Issues

The Bellefonte alternatives would have to be licensed as a new nuclear power plant. The plant's initial NRC operating license would also permit tritium production. Since the process is likely to take 5 years, the Bellefonte alternative has the potential to impact the project schedule but would not affect the national security because initial tritium production could begin with the Watts Bar reactor.

For the alternatives using existing CLWRs, NRC would have to amend the operating licenses of the Watts Bar and Sequoyah reactors to permit tritium production. TVA expects that NRC would be in a position to act upon the amendment requests well in advance of the planned October 2003 start of irradiation.

Environmentally Preferable Alternative

The alternatives involving the completion and operation of one or both of the Bellefonte units would cause greater environmental impacts than the alternatives using existing operating reactors at Watts Bar and Sequoyah. This greater impact of alternatives using the Bellefonte reactors would result from their construction and operation as nuclear units which would be made possible by their concurrent use for tritium production. Based on these additional impacts that would be caused by completing and operating the Bellefonte units, TVA considers the use of the Watts Bar and Sequoyah reactors for tritium production as the environmentally preferable alternative.

Dated: April 24, 2000.
John A. Scalice,
Chief Nuclear Officer and Executive Vice President.

[FR Doc. 00-11222 Filed 5-4-00; 8:45 am]

BILLING CODE 8120-08-U